NATIONAL FOUNDATION FOR THE ARTS AND THE HUMANITIES

Institute of Museum and Library Services

Notice of Proposed Information Collection Request: Evaluation of the Museums for Digital Learning (MDL) Project

AGENCY: Institute of Museum and Library Services, National Foundation for the Arts and the Humanities.

ACTION: Notice, request for comments on this collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. This action is to create the overall evaluation plan, survey and data collection instruments and instructions for the various evaluation techniques to be used at different points in the development and implementation of the MDL pilot initiative for the next two years.

A copy of the proposed information collection request can be obtained by contacting the individual listed below in the ADDRESSES section of this notice.

DATES: Written comments must be submitted to the office listed in the addressee section below on or before June 1, 2019.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Dr. Sandra Webb, Director, Office of Grants Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

FOR FURTHER INFORMATION CONTACT: Helen Wechsler, Supervisory Grants Management Specialist, Office of Museum Services, Institute of Museum and Library Services, 955 L'Enfant Plaza North SW, Suite 4000, Washington, DC 20024-2135. She can be reached by Telephone: 202-653-4717 Fax: 202-653-4608, or by email at hwechsler@imls.gov, or by teletype (TTY/TDD) for persons with hearing difficulty at 202-653-4614.

SUPPLEMENTARY INFORMATION:

I. Background

The Institute of Museum and Library Services is the primary source of federal support for the nation's libraries and museums. We advance, support, and empower America's museums, libraries, and related organizations through grant making, research, and policy development. Our vision is a nation where museums and libraries work together to transform the lives of individuals and communities. To learn more, visit www.imls.gov.

II. Current Actions

The Museums for Digital Learning (MDL) is a project funded by IMLS that seeks to identify and test new ways that digitized museum collections can be made available in the form of engaging digital educational resources via a pilot digital platform to educators around the country seeking to engage their students with all subjects. This two-year project is being led by the Indianapolis Museum of Art at Newfields in collaboration with two museum content partners—The Field Museum and History Colorado and a team of K-12 educators. Once the pilot suite of online products has been created by the project team, they will be tested in the classrooms of the ten educational partners. Testing and validation of the content contribution approach and standard templates to the pilot platform will be conducted with a cohort of up to ten additional museums of various sizes and disciplines.

This project aligns with IMLS's strategic goal and priorities of building the digital capacity of the sector. MDL will catalyze and empower museums to come together and create a national model with a shared vision to thoughtfully assess some of the critical gaps in the current platforms and digital access/use models, and then leverage the power of a shared digital platform to provide easy-to-access, interdisciplinary, and dynamic content from museums in digital format for educators and students.

The project will benefit the national education sector by providing a model for museums to collaborate as a sector with educators and engaging them not just as users of museum content and services, but as co-creators and co-facilitators of student learning; a suite of curriculum enhancing and student-centric digital collections-based educational resources; and an opportunity to pilot-test and improve the resources from the formative evaluation to better meet the needs of the nation's learners.

A product and process evaluation of the MDL project will be completed by a third party evaluator with experience in evaluating digital education platforms produced by the cultural heritage community. The process evaluation aspect will assess the overall planning and implementation of the collaborative model of MDL between the partner museums and the educators, as well as the effectiveness of the training and ease of content contribution of the ten additional museums. Much of the front-end and user experience design of the MDL platform will be formed through the collaboration and co-creation process between the cooperator, lead museum content partners, and the team of educators. The product evaluation will assess the ease of access and educational value of the collections-based digital education products for educators and students.

This action is to create the overall evaluation plan, survey and data collection instruments and instructions for the various evaluation techniques to be used at different points in the development and implementation of the MDL pilot initiative for the next two years.

Agency: Institute of Museum and Library Services.

Title: Museums for Digital Learning Evaluation.

OMB Number: 3137-TBD.

Frequency: Once.

Affected Public: Museum staff, teachers.

Number of Respondents: TBD.

Estimated Average Burden per Response: TBD hours.

Estimated Total Annual Burden: TBD hours.

Total Annualized capital/startup costs: N/A.

Total Annual costs: TBD.

Public Comments Invited: Comments submitted in response to this notice will be summarized and/or included in the request for OMB's clearance of this information collection.

Dated: March 28, 2019.
Kim Miller,
Grants Management Specialist, Institute of Museum and Library Services.

[FR Doc. 2019-06361 Filed 4-1-19; 8:45 am]

BILLING CODE 7036-01-P